DEPARTMENT OF TRANSPORTATION

Federal Aviation Administration

14 CFR Part 39

[Docket No. FAA-2010-1011; Directorate Identifier 2010-CE-047-AD; Amendment 39-16571; AD 2011-01-14]

RIN 2120-AA64

Airworthiness Directives; Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

The current Aircraft Maintenance Manual (AMM) of PC-6 B2-H2 and B2-H4 models does not include a Chapter 04 in the Airworthiness Limitations Section (ALS). For PC-6 models other than B2-H2 and B2-H4, no ALS at all is included in the AMM.

With the latest Revision 12 of the AMM, a new Chapter 04 has been introduced in the AMM for PC-6 B2-H2 and B2-H4 models.

For PC-6 models other than B2-H2 and B2-H4, a new ALS document has been implemented as well.

These documents include the Mandatory Continuing Airworthiness Information (MCAI) which are maintenance requirements and/or airworthiness limitations developed by Pilatus Aircraft Ltd and approved by EASA. Failure to comply with these MCAI constitutes an unsafe condition.

We are issuing this AD to require actions to correct the unsafe condition on these products.

DATES: This AD becomes effective March 8, 2011.

On March 8, 2011, the Director of the Federal Register approved the incorporation by reference of certain publications listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

For service information identified in this AD, contact PILATUS AIRCRAFT LTD., Customer Service Manager, CH-6371 STANS, Switzerland; telephone: +41 (0) 41 619 65 01; fax: +41 (0) 41 619 65 76; Internet: http://www.pilatus-aircraft.com. You may review copies of the referenced service information at the FAA, Small Airplane Directorate, 901 Locust, Kansas City, Missouri 64106. For information on the availability of this material at the FAA, call 816-329-4148.

FOR FURTHER INFORMATION CONTACT: Doug Rudolph, Aerospace Engineer, FAA, Small Airplane Directorate, 901 Locust, Room 301, ACE-112 Kansas City, Missouri 64106; telephone: (816) 329-4059; fax: (816) 329-4090.

SUPPLEMENTARY INFORMATION:

Discussion

We issued a notice of proposed rulemaking (NPRM) to amend 14 CFR part 39 to include an AD that would apply to the specified products. That NPRM was published in the Federal Register on October 7, 2010 (75 FR 62002), and proposed to supersede AD 2005-17-01, Amendment 39-14221 (70 FR 47716; August 15, 2005). That NPRM proposed to correct an unsafe condition for the specified products. The MCAI states that:

The current Aircraft Maintenance Manual (AMM) of PC-6 B2-H2 and B2-H4 models does not include a Chapter 04 in the Airworthiness Limitations Section (ALS). For PC-6 models other than B2-H2 and B2-H4, no ALS at all is included in the AMM.

With the latest Revision 12 of the AMM, a new Chapter 04 has been introduced in the AMM for PC-6 B2-H2 and B2-H4 models.

For PC-6 models other than B2-H2 and B2-H4, a new ALS document has been implemented as well.

These documents include the Mandatory Continuing Airworthiness Information (MCAI) which are maintenance requirements and/or airworthiness limitations developed by Pilatus Aircraft Ltd and approved by EASA. Failure to comply with these MCAI constitutes an unsafe condition.

For the reasons described above, this MCAI requires the implementation and the compliance with these new maintenance requirements and/or airworthiness limitations documents.

Since we issued AD 2005-17-01 concerning the inspection of the stabilizer-trim attachment components, Pilatus has updated their maintenance programs with new requirements and limitations. Since we are now mandating the new AMM, we are completely superseding AD 2005-17-01. Additionally, the AMM revisions in this AD action also include the new repetitive inspections for the wing strut fittings and spherical bearings currently included in AD 2009-18-03 (74 FR 43636; August 27, 2009). We are also removing those repetitive inspections from AD 2009-18-03. You may obtain further information by examining the MCAI in the AD docket.

Comments

We gave the public the opportunity to participate in developing this AD. We considered the comments received.

Request for Clarification on Applicability

Pilatus Aircraft commented that there is no consistency between 2010-CE-047-AD and 2009-CE-034-AD (AD 2009-18-03 (R1); 76 FR 1990; January 12, 2011) regarding the applicability of airplanes in regards to the manufacturer serial numbers (MSN) on the Fairchild PC-6 airplanes.

The FAA agrees that the applicability of airplanes needs corrected. We changed the applicability to clarify that some specific MSNs can also be identified as Fairchild Republic Company PC-6 airplanes, Fairchild Industries PC-6 airplanes, Fairchild Heli Porter PC-6 airplanes, or Fairchild-Hiller Corporation PC-6 airplanes.

Discussion Section Contains Confusing Reference to ADs

Pilatus Aircraft commented that the Discussion section contains confusing references to other ADs. They commented that FAA AD 2005-17-01 refers to Pilatus SB 53-001/FOCA AD HB-2005-263. That Service Bulletin (SB) involves “Stabilizer-Trim Attachment Components,” whereas FAA AD 2009-18-03 mentioned later in the NPRM involves wing strut fittings. The new CH4/ALS documents for the PC-6 contain the repetitive inspection requirements of both AD 2005-17-01 and AD 2009-18-03. Because the Discussion section references various FAA ADs and service bulletins, it is difficult to follow which service information corresponds with which AD.

The FAA agrees that the discussion paragraph could be more concise. We changed the information in the discussion paragraph to make it easier to understand how this AD action affects both AD 2005-17-01 and AD 2009-18-03.

Actions and Compliance Section States Both Documents Required

The Actions and Compliance section indicates that both AMM Doc. 01975 Rev 12 and ALS Doc. 02334 are applicable for each model airplane. Only one document should be applicable for each model airplane, not both.

The FAA agrees because both manuals are not required for each model of airplane, only the one that is appropriate. We changed paragraph (f) to specify which of the above documents apply to which airplanes.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 50 products of U.S. registry. We also estimate that it will take about 1 work-hour per product to comply with the basic requirements of this AD. The average labor rate is $85 per work-hour.

Based on these figures, we estimate the cost of this AD to the U.S. operators to be $4,250, or $85 per product.

In addition, we estimate that any necessary follow-on actions based on maintenance requirements for the wing strut fittings and the spherical bearings following the Aircraft Maintenance Manual and the Airworthiness Limitations Section would take about 40 work-hours and require parts costing $12,000, for a cost of $15,400 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14221 (70 FR 47716; August 15, 2005) and adding the following new AD:

2011-01-14 Pilatus Aircraft Limited: Amendment 39-16571; Docket No. FAA-2010-1011; Directorate Identifier 2010-CE-047-AD.

Effective Date

(a) This airworthiness directive (AD) becomes effective March 8, 2011.

Affected ADs

(b) This AD supersedes AD 2005-17-01, Amendment 39-14221.

Applicability

(c) This AD applies to Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all manufacturer serial number (MSN) 101 through 999, and MSN 2001 through 2092, certificated in any category.

Note 1: For MSN 2001-2092, these airplanes are also identified as Fairchild Republic Company PC-6 airplanes, Fairchild Industries PC-6 airplanes, Fairchild Heli Porter PC-6 airplanes, or Fairchild-Hiller Corporation PC-6 airplanes.

Subject

(d) Air Transport Association of America (ATA) Code 5: Time Limits.

Reason

(e) The mandatory continuing airworthiness information (MCAI) states:

The current Aircraft Maintenance Manual (AMM) of PC-6 B2-H2 and B2-H4 models does not include a Chapter 04 in the Airworthiness Limitations Section (ALS). For PC-6 models other than B2-H2 and B2-H4, no ALS at all is included in the AMM.

With the latest Revision 12 of the AMM, a new Chapter 04 has been introduced in the AMM for PC-6 B2-H2 and B2-H4 models.

For PC-6 models other than B2-H2 and B2-H4, a new ALS document has been implemented as well.

These documents include the Mandatory Continuing Airworthiness Information (MCAI) which are maintenance requirements and/or airworthiness limitations developed by Pilatus Aircraft Ltd and approved by EASA. Failure to comply with these MCAI constitutes an unsafe condition.

For the reasons described above, this MCAI requires the implementation and the compliance with these new maintenance requirements and/or airworthiness limitations documents.

Actions and Compliance

(f) Unless already done, do the following actions:

(1) For all affected Models PC-6/B2-H2 and PC-6/B2-H4; Before further flight after March 8, 2011 (the effective date of this AD), incorporate the maintenance requirements as specified in Pilatus PC-6 AMM Chapter 04-00-00, Revision 12, Document Number 01975, dated May 14, 2010, into your FAA-accepted maintenance program.

(2) For all affected PC-6 models other than the Models PC-6/B2-H2 and PC-6/B2-H4; Before further flight after March 8, 2011 (the effective date of this AD), incorporate the maintenance requirements as specified in Pilatus PC-6 AMM ALS Document Number 02334, Revision 1, dated May 14, 2010, into your FAA-accepted maintenance program.

Note 2: The AMM revisions in this AD action include the repetitive inspections for the wing strut fittings and the spherical bearings currently included in AD 2009-18-03. AD 2009-18-03 (R1), Amendment 39-16570 has been revised to remove these repetitive inspections.

FAA AD Differences

Note 3: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(h) Refer to MCAI EASA AD No.: 2010-0176, dated August 20, 2010; and Pilatus PC-6 AMM Chapter 04-00-00, Revision 12, Document Number 01975, Revision 12, dated May 14, 2010; or in the Pilatus PC-6 ALS Document Number 02334, Revision 1, dated May 14, 2010, for related information.

Material Incorporated by Reference

(i) You must use Pilatus PC-6 AMM Chapter 04-00-00, Revision 12, Document Number 01975, dated May 14, 2010; and incorporate the Pilatus PC-6 ALS Document Number 02334, Revision 1, dated May 14, 2010, to do the actions required by this AD, unless the AD specifies otherwise.

(1) The Director of the Federal Register approved the incorporation by reference of this service information under 5 U.S.C. 552(a) and 1 CFR part 51.

(2) For service information identified in this AD, contact PILATUS AIRCRAFT LTD., Customer Service Manager, CH-6371 STANS, Switzerland; telephone: +41 (0) 41 619 65 01; fax: +41 (0) 41 619 65 76; Internet: http://www.pilatus-aircraft.com.

(3) You may review copies of the referenced service information at the FAA, Small Airplane Directorate, 901 Locust, Kansas City, Missouri 64106. For information on the availability of this material at the FAA, call 816-329-4148.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on December 28, 2010.
Earl Lawrence,
Manager, Small Airplane Directorate, Aircraft Certification Service.

[FR Doc. 2010-33332 Filed 1-31-11; 8:45 am]

BILLING CODE 4910-13-P